FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 24, 2014.

A. Federal Reserve Bank of Chicago (Colette A. Fried, Assistant Vice President) 230 South LaSalle Street, Chicago, Illinois 60690-1414:

1. Augustin S. Hart, III, Rebecca S. Hart and Broadwater Partners LP, all of Oquawka, Illinois; Douglas S. Hart, Powell, Wyoming; the general partner of Broadwaters Partnership LP, Broadwaters, Inc., Cody, Wyoming; Kathryn Stuart Lansing, Lake Forest, Illinois; Douglas S. Hart, Powell, Wyoming; and Harriet Heather Hart, Bozeman, Montana; to retain voting shares of Western Illinois Bancshares, Inc., and thereby retain voting shares of Western Illinois Bank, both in Monmouth, Illinois.

B. Federal Reserve Bank of Minneapolis (Jacquelyn K. Brunmeier, Assistant Vice President) 90 Hennepin Avenue, Minneapolis, Minnesota 55480-0291:

1. John R. Von Holtum, Minneapolis, Minnesota; to retain voting shares of Central Trust Company, Edina, Minnesota, and thereby indirectly retain voting shares of Central Bank and Trust, Lander, Wyoming, CenBank, Buffalo Lake, Minnesota, and VH Bancorporation, Inc., Edina, Minnesota, and its subsidiary Grand Marais State Bank, Grand Marais, Minnesota.

Board of Governors of the Federal Reserve System, October 6, 2014.
Michael J. Lewandowski,
Associate Secretary of the Board.

[FR Doc. 2014-24147 Filed 10-8-14; 8:45 am]

BILLING CODE 6210-01-P